FEDERAL COMMUNICATIONS COMMISSION

Notice of Public Information Collection(s) Being Reviewed by the Federal Communications Commission, Comments Requested

August 17, 2005.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 31, 2005. If you anticipate that you will be submitting comments, but find it difficult to do so within the period of time allowed by this notice, you should advise the contact listed below as soon as possible.

ADDRESSES: You may submit your Paperwork Reduction Act (PRA) comments by email or U.S. postal mail. To submit you comments by email send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an e-mail to PRA@fcc.gov or contact Leslie F. Smith at 202-418-0217.

SUPPLEMENTARY INFORMATION: OMB Control Number: 3060-1015.

Title: Ultra Wideband Transmission Systems Operating under Part 15, ET Doc. No. 98-153.

Form Number: N/A.

Type of Review: Revision of a currently approved collection.

Respondents: Business or other for profit entities; not-for-profit institutions.

Number of Respondents: 500.

Estimated Time per Response: 1 hour.

Frequency of Response: Recordkeeping, on occasion reporting requirements, third party disclosure.

Total Annual Burden: 500 hours.

Total Annual Costs: $625.

Privacy Impact Assessment: No impact(s).

Needs and Uses: On February 13, 2003, the FCC adopted a Memorandum Opinion and Order (MO&O) and Further Notice of Proposed Rule Making, in the Revision of Part 15 of the Commission's Rules Regarding Ultra-Wideband Transmission System, ET Docket No. 98-153. Section 15.525—Coordination requirements—the Commission revised the rules to the effect that initial operation in a particular area does not require prior approval from the FCC to operate the equipment. The First Report and Order required operators of the Ultra Wideband (UWB) imaging systems to coordinate with other Federal agencies via the FCC and to obtain approval before the UWB equipment may be used. Under the rules adopted in the MO&O, initial operation in a particular area may not commence until the information has been sent to the Commission and no prior approval is required. The information will be used to coordinate the operation of the Ultra Wideband transmission systems in order to avoid interference with sensitive U.S. Government radio systems. The UWB operators will be required to provide the name, address and other pertinent contact information of the user, the desired geographical area of operation, and the FCC ID number, and other nomenclature of the UWB device. This information will be collected by the Commission and forwarded to the National Telecommunications and Information Administration (NTIA under the U.S. Department of Commerce. This information collection is essential to controlling potential interference to Federal radio communications. Since initial operation in a particular area does not require prior approval from the FCC to operate the equipment, we have reduced the amount of time per response to 1 hour.

Federal Communications Commission.
Marlene H. Dortch,
Secretary.

[FR Doc. 05-17043 Filed 8-30-05; 8:45 am]

BILLING CODE 6712-01-P